NUCLEAR REGULATORY COMMISSION

[Docket No. 52-025; NRC-2008-0252]

Southern Nuclear Operating Company, Inc.; Vogtle Electric Generating Plant, Unit 3; Unit 3 Auxiliary Building Wall 11 Seismic Gap Requirements

AGENCY: Nuclear Regulatory Commission.

ACTION: Exemption and combined license amendment; issuance.

SUMMARY: The U.S. Nuclear Regulatory Commission (NRC) is granting an exemption to allow a departure from the certification information in Tier 1 of the plant-specific design control document (DCD) and is issuing License Amendment No. 182 to Combined License (COL) NPF-91. The COL is for construction and operation of the Vogtle Electric Generating Plant (VEGP) Unit 3, located in Burke County, Georgia. The granting of the exemption allows the changes to Tier 1 information asked for in the amendment. Because the acceptability of the exemption was determined in part by the acceptability of the amendment, the exemption and amendment are being issued concurrently.

DATES: The exemption and amendment were issued on August 4, 2020.

ADDRESSES: Please refer to Docket ID NRC-2008-0252 when contacting the NRC about the availability of information regarding this document. You may obtain publicly available information related to this document using any of the following methods:

• Federal Rulemaking website: Go to https://www.regulations.gov and search for Docket ID NRC-2008-0252. Address questions about Docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. The request for the amendment and exemption was designated License Amendment Request (LAR) 20-001 and submitted by letter dated February 7, 2020, (ADAMS Accession No. ML20038A939).

• Attention: The PDR, where you may examine and order copies of public documents is currently closed. You may submit your request to the PDR via email at pdr.resource@nrc.gov or call 1-800-397-4209 or 301-415-4737, between 8:00 a.m. and 4:00 p.m. (EST), Monday through Friday, except Federal holidays.

FOR FURTHER INFORMATION CONTACT: Cayetano Santos, Office of Nuclear Reactor Regulation, U.S. Nuclear Regulatory Commission, Washington, DC 20555-0001; telephone: 301-415-7270; email: Cayetano.Santos@nrc.gov.

SUPPLEMENTARY INFORMATION:

I. Introduction

The NRC is issuing License Amendment No. 182 to COL NPF-91 and is granting an exemption from Tier 1 information in the plant-specific DCD for VEGP Unit 3. The generic AP1000 DCD is incorporated by reference in appendix D, “Design Certification Rule for the AP1000,” to part 52 of title 10 of the Code of Federal Regulations (10 CFR). The exemption, granted pursuant to paragraph A.4 of section VIII, “Processes for Changes and Departures,” of 10 CFR part 52, appendix D, allows the licensee to depart from the Tier 1 information. With the requested amendment, SNC sought proposed changes to the north-south minimum seismic gap requirements above grade between the nuclear island and the annex building west of Column Line I from elevation 141 feet through 154 feet to accommodate as-built localized nonconformances.

Part of the justification for granting the exemption was provided by the review of the amendment. Because the exemption is necessary in order to issue the requested license amendment, the NRC granted the exemption and issued the amendment concurrently, rather than in sequence. This included issuing a combined safety evaluation containing the NRC staff's review of both the exemption and license amendment requests. The exemption met all applicable regulatory criteria set forth in §§ 50.12, 52.7, and 52.63, and in section VIII.A.4 of appendix D to 10 CFR part 52. The license amendment was found to be acceptable as well. The combined safety evaluation is available in ADAMS under Accession No. ML20132A078.

The exemption document for VEGP Unit 3 can be found in ADAMS under Accession No. ML20132A077. The exemption is reproduced (with the exception of abbreviated titles and additional citations) in Section II of this document. The amendment documents for COL NPF-91 are available in ADAMS under Accession No. ML20132A052. A summary of the amendment documents is provided in Section III of this document.

II. Exemption

Reproduced in this notice is the exemption document issued to VEGP Unit 3. It makes reference to the combined safety evaluation that provides the reasoning for the findings made by the NRC (and listed under Item 1) in order to grant the exemption:

1. In a letter dated February 7, 2020, Southern Nuclear Operating Company requested from the Nuclear Regulatory Commission an exemption to allow departures from Tier 1 information in the certified DCD incorporated by reference in 10 CFR part 52, appendix D, “Design Certification Rule for the AP1000 Design,” as part of license amendment request (LAR) 20-001, “Unit 3 Auxiliary Building Wall Seismic Gap Requirements.”

For the reasons set forth in Section 3.2 of the NRC staff's Safety Evaluation, the Commission finds that:

A. The exemption is authorized by law;

B. the exemption presents no undue risk to public health and safety;

C. the exemption is consistent with the common defense and security;

D. special circumstances are present in that the application of the rule in this circumstance is not necessary to serve the underlying purpose of the rule;

E. the special circumstances outweigh any decrease in safety that may result from the reduction in standardization caused by the exemption; and

F. the exemption will not result in a significant decrease in the level of safety otherwise provided by the design.

2. Accordingly, SNC is granted an exemption from the certified DCD Tier 1 information, with corresponding changes to Appendix C of the facility Combined License, as described in the licensee's request dated February 7, 2020. This exemption is related to, and necessary for, the granting of License Amendment No. 182, which is being issued concurrently with this exemption.

3. As explained in Section 6.0 of the NRC staff's Safety Evaluation, this exemption meets the eligibility criteria for categorical exclusion set forth in 10 CFR 51.22(c)(9). Therefore, pursuant to 10 CFR 51.22(b), no environmental impact statement or environmental assessment needs to be prepared in connection with the issuance of the exemption.

4. This exemption is effective as of the date of its issuance.

III. License Amendment Request

By letter dated February 7, 2020, SNC requested that the NRC amend COL NPF-91 for VEGP Unit 3. The proposed amendment is described in Section I of this Federal Register notice.

The Commission has determined for this amendment that the application complies with the standards and requirements of the Atomic Energy Act of 1954, as amended (the Act), and the Commission's rules and regulations. The Commission has made the findings required by the Act and the Commission's rules and regulations in 10 CFR chapter I, which are set forth in the license amendment.

A notice of consideration of issuance of amendment to the COL, proposed no significant hazards consideration determination, and opportunity for a hearing in connection with this action, was published in the Federal Register on March 10, 2020 (85 FR 13944). No comments were received during the 30-day comment period.

The Commission has determined that this amendment satisfies the criteria for categorical exclusion in accordance with 10 CFR 51.22. Therefore, pursuant to 10 CFR 51.22(b), no environmental impact statement or environmental assessment need be prepared for this amendment.

IV. Final No Significant Hazards Consideration Determination

A request for hearing was filed on May 11, 2020, by the Blue Ridge Environmental Defense League and its chapter, Concerned Citizens of Shell Bluff (collectively “BREDL”) (ADAMS Package Accession No. ML20132D299). Under its regulations, the Commission may issue and make an amendment immediately effective, notwithstanding the pendency before it of a request for a hearing from any person, in advance of the holding and completion of any required hearing, where it has made a final determination that no significant hazards consideration is involved. While the hearing request was pending before an Atomic Safety and Licensing Board (ASLB), the NRC staff issued the amendment on August 4, 2020, after making a final determination that no significant hazards consideration was involved, as discussed in Section 4.0 of the combined safety evaluation.

Subsequently, the ASLB denied BREDL's request for hearing and terminated the proceeding in its order LBP-20-08, dated August 10, 2020 (ADAMS Accession No. ML20223A385). On September 4, 2020, BREDL appealed the ASLB decision (ADAMS Accession No. ML20248J166). On December 22, 2020, the Commission affirmed the ASLB's decision (ADAMS Accession No. ML20357A101).

V. Conclusion

For the reasons set forth in the combined safety evaluation, the staff granted the exemption and issued the amendment that SNC requested on February 7, 2020. The exemption and amendment were issued on August 4, 2020, as part of a combined package to SNC (ADAMS Package Accession No. ML20132A032).

Dated: January 7, 2021.
For the Nuclear Regulatory Commission.
Omar R. Lopez-Santiago,
Chief, Vogtle Project Office, Office of Nuclear Reactor Regulation.

[FR Doc. 2021-00410 Filed 1-11-21; 8:45 am]

BILLING CODE 7590-01-P